DEPARTMENT OF VETERANS AFFAIRS

VA National Academic Affiliations Council, Notice of Meeting

The Department of Veterans Affairs (VA) gives notice under the Federal Advisory Committee Act, 5 U.S.C. ch. 10, that a meeting of VA's National Academic Affiliations Council (NAAC) will be held on March 12, 2024-March 13, 2024, at The American Legion, 7th Floor, 1608 K Street NW, Washington DC. The meeting sessions are open to the public.

The purpose of the NAAC or “Council” is to advise the Secretary on matters affecting partnerships between VA and its academic affiliates.

On March 12, 2024, the Council will convene an open session and receive presentations and updates beginning at 9 a.m. eastern standard time (EST). The agenda will include updates from NAAC's Diversity in the Healthcare Workforce Subcommittee, and the Strategic Academic Advisory Council (SAAC). The Council will receive presentations including an introduction to Artificial Intelligence in the VA, updates on the topics of STRONG Veterans Act, CHIP IN for Veterans Act: National Project Updates, and PACT ACT, Section 704 Updates—Sole Source Leasing from Academic Affiliates. The meeting will adjourn that day at 4:30 p.m. EST.

On March 13, 2024, the Council will convene an open session and receive presentations and updates beginning at 9 a.m. EST. The agenda will include a presentation on Federal Supremacy in the VA. The Council will also receive updates from MISSION ACT, Section 403 Implementation and VHA Electronic Health Record Modernization: Roll-Out and Governance. The Council will receive public comments from 11:20 a.m. to 11:50 a.m. EST. The meeting will adjourn at 12 p.m. EST.

Interested persons may attend and present oral statements to the Council on March 13th during the public comment period. A sign-in sheet for those who want to give comments will be available at the meeting. Individuals who speak are invited to submit a 1-2-page summary of their comments at the time of the meeting for inclusion in the official meeting record. Oral presentations will be limited to five minutes or less, depending on the number of participants. Interested parties may also provide written comments for review by the Council prior to the meeting, or at any time via email to nellie.mitchell@va.gov. Any member of the public wishing to attend or seeking additional information should contact Ms. Mitchell via email or by phone at (608) 358-9902.

Dated: January 24, 2024.
Jelessa M. Burney,
Federal Advisory Committee Management Officer.

[FR Doc. 2024-01669 Filed 1-26-24; 8:45 am]

BILLING CODE P